DEPARTMENT OF EDUCATION.

National Assessment Governing Board; Meeting.

AGENCY: National Assessment Governing Board; Education

ACTION: Notice of Closed and Partially Closed Meetings

SUMMARY: This notice sets forth the schedule and proposed agenda of a forthcoming meeting of the National Assessment Governing Board. This notice also describes the functions of the Board. Notice of this meeting is required under Section 10(a)(2) of the Federal Advisory Committee Act. This document is intended to notify the general public of their opportunity to attend. Individuals who will need accommodations for a disability in order to attend the meeting (i.e. interpreting services, assistive listening devices, materials in alternative format) should notify Mary Ann Wilmer at 202-357-6938 or mary_ann_wilmer@ed.gov by no later than April 28, 2000. We will attempt to meet requests after this date, but cannot guarantee availability of the requested accommodation. The meeting site is accessible to individuals with disabilities.

DATES: May 11-13, 2000.

TIME: May 11—Subject Area Committee #2, 3:00-4:30 p.m. (open), 4:30-5:00 p.m. (closed); Achievement Levels Committee, 3:00-5:00 p.m. (open); Executive Committee, 5:30-6:30 p.m. (open), 6:30-7:00 p.m. (closed); May 12—Full Board, 8:30-10:15 a.m. (open); Subject Area Committee #1, 10:30-11:00 a.m. (closed), 11:00 a.m.-12:00 p.m. (open); Design and Methodology Committee, 10:30 a.m.-12:00 p.m. (open); Joint Meeting of Design and Methodology Committee and Subject Area Committee #1, 12:00-12:30 p.m. (open); and Reporting and Dissemination Committee, 10:30 a.m.-12:30 p.m. (open); Full Board, 12:30-4:45 p.m. (open). May 13—Nominations Committee, 8:00-9:00 a.m. (closed); Full Board, 9:00-11:30 a.m. (open), 11:30 a.m.-12:00 p.m. (closed).

LOCATION: Harbor Court Hotel, 350 Light Street, Baltimore, Maryland.

FOR FURTHER INFORMATION CONTACT: Mary Ann Wilmer, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons. Under P.L. 105-78, the National Assessment Governing Board is also granted exclusive authority over developing the Voluntary National Tests pursuant to contract number RJ97153001.

On May 11, Subject Area Committee #2 will hold a partially closed meeting from 3:00-5:00 p.m. From 4:30-5:00 p.m., the Committee will meet in closed session to review test items for the proposed 8th grade Voluntary National Test in Mathematics. This portion of the meeting must be closed because references will be made to specific items from the assessment and premature disclosure of the information presented for review would be likely to significantly frustrate implementation of a proposed agency action if conducted in open session. Such matters are protected by exemption 9(B) of Section 552b(c) of Title 5 U.S.C. During the open portion of the meeting, 3:00-4:30 p.m., the Committee will hear a briefing on the 2004 NAEP Mathematics Framework Update procurement; and the Committee will view a demonstration of the NAEP Mathematics Online Study.

The Achievement Levels Committee will meet in open session from 3:00-5:00 p.m. to hear updates on the Achievement Levels Study, and a briefing on the report which examines the development of the achievement levels for NAEP assessments over the past decade. In addition, agenda items for this meeting of the Achievement Levels Committee include an update on the commissioned papers addressing the translation of NAEP achievement levels to the Voluntary National Tests.

Also on May 11, the Executive Committee will meet in partially closed session. In open session 5:30-6:30 p.m., the Committee will hear an update on the Voluntary National Tests activities; a briefing on the public version of NAEP frameworks and achievement levels publications; and updates on NAEP secondary analysis grants, and reauthorization. In closed session, 6:30-7:00 p.m., the Committee will hear an update on the development of cost estimates for NAEP (RFPs) and other contract initiatives. This portion of the meeting must be conducted in closed session because public disclosure of this information would likely have an adverse financial effect on the NAEP program. The discussion of this information would be likely to significantly frustrate implementation of a proposed agency action, if conducted in open session. Such matters are protected by exemption 9(B) of Section 552(b) of Title 5 U.S.C.

On May 12, the full Board will convene in open session from 8:30-10:15 a.m. The board will hear a report from the Executive Director of the National Assessment Governing Board; remarks from the Maryland State Superintendent of Schools; and updates on NAEP activities, and issues regarding proposed NAEP incentives and rewards.

Beginning at 10:30 a.m., there will be meetings of the Board's standing committees. Subject Area Committee #1 will meet in partially closed session. From 10:30-11:00 a.m., the Committee will meet in closed session to review secure test items for the proposed 4th grade Voluntary National Test in Reading. This portion of the meeting must be closed because references will be made to specific items from the assessment and premature disclosure of the information presented for review would be likely to significantly frustrate implementation of a proposed agency action if conducted in open session. Such matters are protected by exemption 9(B) of Section 552b(c) of Title 5 U.S.C. In the open portion of the meeting, 11:00 a.m.-12:00 p.m., Subject Area Committee #1 will discuss the NAEP Foreign Language Framework and Specifications.

The Design and Methodology Committee will meet in open session from 10:30 a.m.-12:00 p.m. to hear briefings on the following National Voluntary Tests issues: dual-language testing; and preliminary plans for integrated pilot test design and analysis. Also, the Committee will hear an update on the NAEP writing assessment trend.

From 12:00-12:30 p.m., there will be a joint meeting of the Design and Methodology Committee and Subject Area Committee #1 to discuss the achievement levels on the NAEP Foreign Language Assessment.

The Reporting and Dissemination Committee will meet in open session from 10:30 a.m.-12:30 p.m. The Committee will discuss issues pertaining to the reporting of results for NAEP 2000 and 2002 by private school; schedule for release of future NAEP reports; plan for release of the civics trend assessment; and reporting categories by race in 2002 assessments in response to an OMB directive.

The full Board will reconvene in open session from 12:30-4:30 p.m. There will be a panel presentation by members of the State of Maryland Legislature who will give a legislative view of assessment and accountability. The Board will receive recommendations on NAEP Foreign Language Framework and Specifications. This session will conclude with presentations and discussion on NAEP participation issues.

On May 13, there will be a closed meeting of the Nominations Committee from 8:00-9:00 a.m. The Committee will discuss nominees qualifications for Board membership. These discussions will relate solely to the internal personnel rules and practices of an agency and would disclose information of a personal nature where disclosure would constitute a clearly unwarranted invasion of personal privacy if conducted in open session. Such matters are protected by exemption (2) and (6) of Section 552b(c) of Title 5 U.S.C.

From 9:00 a.m., until 11:30 a.m., the full Board will meet in open session. The Board will hear the results of a study on America's kindergartners, consider issues related to NAEP incentives and rewards, and receive reports from its various standing committees. Beginning at 11:30 a.m. through adjournment, approximately 12:00 noon, the Board will meet in closed session, to receive and consider the Nominations Committee recommendations for membership. The review and subsequent discussion of this information relate solely to the internal personnel rules and practices of an agency and will disclose information of a personal nature where disclosure would constitute a clearly unwarranted invasion of personal privacy if conducted in open session. Such matters are protected by exemptions (2) and (6) of Section 552b(c) of Title 5 U.S.C.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW, Washington, DC, from 8:30 a.m. to 5:00 p.m.

Dated: April 20, 2000.
Roy Truby,
Executive Director, National Assessment Governing Board.

[FR Doc. 00-10252 Filed 4-24-00; 8:45 am]

BILLING CODE 4000-01-M